DEPARTMENT OF ENERGY

Federal Energy Regulatory Commission

Combined Notice of Filings #1

Take notice that the Commission received the following electric corporate filings:

Docket Numbers: EC17-180-000.

Applicants: American Electric Power Service Corporation, AEP West Virginia Transmission Company, Inc.

Description: Amendment to September 15, 2017 Application Under Section 203 of the Federal Power Act to Acquire Transmission Facilities and Request for Certain Waivers of American Electric Power Service Corporation, et al.

Filed Date: 12/4/17.

Accession Number: 20171204-5080.

Comments Due: 5 p.m. ET 12/14/17.

Take notice that the Commission received the following electric rate filings:

Docket Numbers: ER10-2964-015.

Applicants: Selkirk Cogen Partners, L.P.

Description: Notice of Non-Material Change of Selkirk Cogen Partners, L.P.

Filed Date: 12/1/17.

Accession Number: 20171201-5373.

Comments Due: 5 p.m. ET 12/22/17.

Docket Numbers: ER14-695-006.

Applicants: Entergy Services, Inc.

Description: Compliance filing: LBA Compliance Errata ER14-695 12-1-2017 to be effective 12/19/2013.

Filed Date: 12/1/17.

Accession Number: 20171201-5271.

Comments Due: 5 p.m. ET 12/22/17.

Docket Numbers: ER14-700-008.

Applicants: Entergy Services, Inc.

Description: Compliance filing: LBA Compliance Errata ER14-700 12-1-2017 to be effective 12/19/2013.

Filed Date: 12/1/17.

Accession Number: 20171201-5264.

Comments Due: 5 p.m. ET 12/22/17.

Docket Numbers: ER18-374-000.

Applicants: Southwest Power Pool, Inc.

Description: § 205(d) Rate Filing: Attachment Z2 Tariff Revisions to be effective 2/1/2018.

Filed Date: 12/1/17.

Accession Number: 20171201-5309.

Comments Due: 5 p.m. ET 12/22/17.

Docket Numbers: ER18-375-000.

Applicants: California Independent System Operator Corporation.

Description: § 205(d) Rate Filing: 2017-12-01 Aliso Canyon Emergency Gas-Electric Coorindation Amendment to be effective 12/16/2017.

Filed Date: 12/1/17.

Accession Number: 20171201-5313.

Comments Due: 5 p.m. ET 12/11/17.

Docket Numbers: ER18-376-000.

Applicants: Cogen Technologies Linden Venture, L.P.

Description: Compliance filing: Updates to MBR Tariff to be effective 12/5/2017.

Filed Date: 12/4/17.

Accession Number: 20171204-5050.

Comments Due: 5 p.m. ET 12/26/17.

Docket Numbers: ER18-377-000.

Applicants: PJM Interconnection, L.L.C.

Description: § 205(d) Rate Filing: Amendment to WMPA SA No. 3183; Queue No. W3-029 to be effective 11/10/2014.

Filed Date: 12/4/17.

Accession Number: 20171204-5082.

Comments Due: 5 p.m. ET 12/26/17.

Docket Numbers: ER18-378-000.

Applicants: Public Service Company of Colorado.

Description: § 205(d) Rate Filing: 12012017_5th Revised IREA PPA to be effective 12/5/2017.

Filed Date: 12/4/17.

Accession Number: 20171204-5090.

Comments Due: 5 p.m. ET 12/26/17.

Docket Numbers: ER18-379-000.

Applicants: Midcontinent Independent System Operator, Inc., Ameren Illinois Company.

Description: § 205(d) Rate Filing: 2017-12-04_SA 3068 Ameren-Hannibal Construction Agreement (#2) to be effective 11/5/2017.

Filed Date: 12/4/17.

Accession Number: 20171204-5091.

Comments Due: 5 p.m. ET 12/26/17.

Docket Numbers: ER18-380-000.

Applicants: Talen Energy Marketing, LLC.

Description: Request for Limited Waiver of Talen Energy Marketing, LLC.

Filed Date: 12/4/17.

Accession Number: 20171204-5094.

Comments Due: 5 p.m. ET 12/26/17.

Docket Numbers: ER18-381-000.

Applicants: Southwest Power Pool, Inc.

Description: Petition for Waiver of Tariff Provisions of Southwest Power Pool, Inc.

Filed Date: 12/4/17.

Accession Number: 20171204-5095.

Comments Due: 5 p.m. ET 12/26/17.

Take notice that the Commission received the following electric securities filings:

Docket Numbers: ES18-12-000.

Applicants: GridLiance West Transco LLC.

Description: Application For Certain Authorization Under Section 204 of the Federal Power Act of GridLiance West Transco LLC.

Filed Date: 12/1/17.

Accession Number: 20171201-5378.

Comments Due: 5 p.m. ET 12/22/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 4, 2017.
Nathaniel J. Davis, Sr.,
Deputy Secretary.

[FR Doc. 2017-26497 Filed 12-7-17; 8:45 am]

BILLING CODE 6717-01-P